INTERNATIONAL TRADE COMMISSION

[Inv. No. 337-TA-494]

In the Matter of Certain Automotive Measuring Devices, Products Containing Same, and Bezels for Such Devices; Notice of Commission Decision Not To Review an Initial Determination Terminating the Investigation as to Respondent Jimray Technology, Inc. on the Basis of a Consent Order; Issuance of Consent Order

AGENCY: International Trade Commission.

ACTION: Notice.

SUMMARY: Notice is hereby given that the U.S. International Trade Commission has determined not to review an initial determination (“ID”) issued by the presiding administrative law judge (“ALJ”) terminating the above-captioned investigation as to respondent Jimray Technology, Inc. on the basis of a consent order.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission issued a notice of investigation dated June 16, 2003, naming Auto Meter Products, Inc. (“Auto Meter”) of Sycamore, Illinois, as the complainant and twelve companies as respondents. On June 20, 2003, the notice of investigation was published in the Federal Register. 68 FR 37023. The complaint alleged violations of section 337 of the Tariff Act of 1930 in the importation and sale of certain automotive measuring devices, products containing same, and bezels for such devices, by reason of infringement of U.S. Registered Trademark Nos. 1,732,643 and 1,497,472, and U.S. Supplemental Register No. 1,903,908, and infringement of complainant's trade dress. Subsequently, seven more firms were added as respondents based on two separate motions filed by complainant, and the investigation was terminated as to four respondents on the basis of consent orders.

On June 7, 2004, the ALJ issued an ID (Order No. 30) terminating the investigation as to respondent Jimray Technology, Inc. d/b/a Progauges Co., Ltd. (“Jimray”) on the basis of a settlement agreement and consent order. The ALJ observed that respondent Jimray and complainant Auto Meter filed a joint motion to terminate based on a settlement agreement between them, and a proposed consent order. The Commission investigative attorney filed a response supporting the motion to terminate the investigation. No petitions for review of the ID were filed.

The authority for the Commission's determination is contained in section 337 of the Tariff Act of 1930, as amended (19 U.S.C. 1337), and in section 210.42 of the Commission's Rules of Practice and Procedure (19 CFR 210.42).

Issued: July 2, 2004.
By order of the Commission.
Marilyn R. Abbott,
Secretary to the Commission.

[FR Doc. 04-15675 Filed 7-9-04; 8:45 am]

BILLING CODE 7020-02-P